ENVIRONMENTAL PROTECTION AGENCY

40 CFR Part 180

[EPA-HQ-OPP-2024-0431; FRL-12415-03-OCSPP]

Chlorpyrifos; Tolerance Revocation; Reopening of the Comment Period

AGENCY: Environmental Protection Agency (EPA).

ACTION: Proposed rule; reopening of the comment period.

SUMMARY: In the Federal Register of December 10, 2024, EPA issued a proposed rule to revoke all tolerances for residues of chlorpyrifos, except for those associated with the use of chlorpyrifos on the following crops: alfalfa, apple, asparagus, tart cherry, citrus, cotton, peach, soybean, strawberry, sugar beet, and spring and winter wheat. The proposal also addresses the request to revoke all chlorpyrifos tolerances contained in the September 12, 2007, petition submitted by the Natural Resources Defense Council (NRDC) and Pesticide Action Network North America (PANNA).

DATES: The comment period for the proposed rule, which closed on February 10, 2025, published at 89 FR 99184 (December 10, 2024), is reopened for an additional 30 days. Comments must be received on or before March 24, 2025.

ADDRESSES: Submit your comments, identified by ID number EPA-HQ-OPP-2024-0431, online at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Patricia Biggio, Pesticide Re-Evaluation Division (7508M), Office of Pesticide Programs, Environmental Protection Agency, 1200 Pennsylvania Ave. NW, Washington, DC 20460-0001; telephone number: 202-566-0700; email address: OPPChlorpyrifosInquiries@epa.gov.

SUPPLEMENTARY INFORMATION: In response to requests from stakeholders, EPA is hereby reopening the comment period established in the Federal Register document of December 10, 2024, at 89 FR 99184 (FRL-12415-03-OCSPP) for an additional 30 days to provide stakeholders with additional time to review materials and prepare comments. More information on the action can be found in the Federal Register of December 10, 2024.

To submit comments or access the docket, please follow the detailed instructions provided under ADDRESSES. You do not need to resubmit comments. If you have questions, consult the technical person listed under FOR FURTHER INFORMATION CONTACT.

Authority: 21 U.S.C. 346a.

Dated: February 13, 2025.
Edward Messina,
Director, Office of Pesticide Programs.

[FR Doc. 2025-02788 Filed 2-19-25; 8:45 am]

BILLING CODE 6560-50-P